DEPARTMENT OF TRANSPORTATION

Federal Aviation Administration

14 CFR Part 39

[Docket No. 99-NM-305-AD; Amendment 39-11718; AD 2000-09-09]

RIN 2120-AA64

Airworthiness Directives; EMBRAER Model EMB-145 Series Airplanes

AGENCY: Federal Aviation Administration, DOT.

ACTION: Final rule.

SUMMARY: This amendment supersedes an existing airworthiness directive (AD), applicable to certain EMBRAER Model EMB-145 series airplanes, that currently requires revisions to the Airplane Flight Manual (AFM) to provide the flight crew with updated procedures for prohibiting use of the autopilot below 1,500 feet above ground level, emergency procedures for pitch trim runaway, and abnormal procedures for autopilot trim failure and stabilizer out of trim. That AD also requires installation of certain warning placards. This amendment requires replacement of a certain integrated computer with a new integrated computer; installation of an upgraded integrated computers checklist; and removal of certain placards and certain limitations in the AFM. This amendment is prompted by issuance of mandatory continuing airworthiness information by a foreign civil airworthiness authority. The actions specified by this AD are intended to prevent failure of the pitch trim system, which could cause undetected autopilot trim runaway, and consequent reduced controllability of the airplane, uncommanded autopilot disconnect, and excessive altitude loss.

DATES: Effective June 16, 2000.

The incorporation by reference of EMBRAER Service Bulletin S.B. 145-31-0010, dated March 18, 1999, as listed in the regulations, is approved by the Director of the Federal Register as of June 16, 2000.

The incorporation by reference of EMBRAER Alert Service Bulletin, S.B. 145-31-A010, dated December 15, 1998, as listed in the regulations, was previously approved by the Director of the Federal Register as of February 2, 1999 (64 FR 4521, January 29, 1999).

ADDRESSES: The service information referenced in this AD may be obtained from Empresa Brasileira de Aeronautica S.A. (EMBRAER), P.O. Box 343—CEP 12.225, Sao Jose dos Campos—SP, Brazil. This information may be examined at the Federal Aviation Administration (FAA), Transport Airplane Directorate, Rules Docket, 1601 Lind Avenue, SW., Renton, Washington; or at the FAA, Small Airplane Directorate, Atlanta Aircraft Certification Office, One Crown Center, 1895 Phoenix Boulevard, suite 450, Atlanta, Georgia; or at the Office of the Federal Register, 800 North Capitol Street, NW., suite 700, Washington, DC.

FOR FURTHER INFORMATION CONTACT: Rob Capezzuto, Aerospace Engineer, Systems and Flight Test Branch, ACE-116A, FAA, Small Airplane Directorate, Atlanta Aircraft Certification Office, One Crown Center, 1895 Phoenix Boulevard, suite 450, Atlanta, Georgia 30349; telephone (770) 703-6071; fax (770) 703-6097.

SUPPLEMENTARY INFORMATION: A proposal to amend part 39 of the Federal Aviation Regulations (14 CFR part 39) by superseding AD 99-01-12, amendment 39-11015 (64 FR 4521, January 29, 1999), which is applicable to certain EMBRAER Model EMB-145 series airplanes, was published in the Federal Register on December 29, 1999 (64 FR 72964). The action proposed to require revisions to the Airplane Flight Manual to provide the flight crew with updated procedures for prohibiting use of the autopilot below 1,500 feet above ground level, emergency procedures for pitch trim runaway, and abnormal procedures for autopilot trim failure and stabilizer out of trim. That AD also requires installation of certain warning placards. This amendment requires replacement of a certain integrated computer with a new integrated computer; installation of an upgraded integrated computers checklist; and removal of certain placards and certain limitations in the AFM.

Comments

Interested persons have been afforded an opportunity to participate in the making of this amendment. No comments were submitted in response to the proposal or the FAA's determination of the cost to the public.

Conclusion

The FAA has determined that air safety and the public interest require the adoption of the rule as proposed.

Cost Impact

There are approximately 46 airplanes of U.S. registry that will be affected by this AD.

The actions that are currently required by AD 99-01-12, and retained in this AD, take approximately 1 work hour per airplane to accomplish, at an average labor rate of $60 per work hour. Based on these figures, the cost impact of the currently required actions on U.S. operators is estimated to be $2,760, or $60 per airplane.

The new integrated computer replacement, checklist installation and placard removals that are required by this AD action take approximately 1 work hour per airplane to accomplish, at an average labor rate of $60 per work hour. Required parts will cost approximately $675 per airplane. Based on these figures, the cost impact of the requirements of this AD on U.S. operators is estimated to be $33,810, or $735 per airplane.

The removal of AFM limitations that is required by this AD action takes approximately 1 work hour per airplane to accomplish. Based on these figures, the cost impact of the requirements of this AD on U.S. operators is estimated to be $2,760, or $60 per airplane.

The cost impact figures discussed above are based on assumptions that no operator has yet accomplished any of the requirements of this AD action, and that no operator would accomplish those actions in the future if this AD were not adopted.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-11015 (64 FR 4521, January 29, 1999), and by adding a new airworthiness directive (AD), amendment 39-11718, to read as follows:

2000-09-09 Empresa Brasileira De Aeronautica S.A. (EMBRAER): Amendment 39-11718. Docket 99-NM-305-AD. Supersedes AD 99-01-12, Amendment 39-11015.

Applicability: Model EMB-145 series airplanes, serial numbers 145004 through 145047 inclusive and 145049 through 145051 inclusive; certificated in any category; equipped with IC-600 #1 having part number (P/N) 7017000-82402; excluding those airplanes on which the modification specified in any of the following EMBRAER service bulletins has been accomplished: EMBRAER Service Bulletin S.B. 145-22-0001, dated May 7, 1998; EMBRAER Service Bulletin S.B. 145-22-0004, Revision 01, dated July 30, 1998; EMBRAER Service Bulletin S.B. 145-31-0007, Revision 02, dated June 30, 1998.

Note 1: This AD applies to each airplane identified in the preceding applicability provision, regardless of whether it has been otherwise modified, altered, or repaired in the area subject to the requirements of this AD. For airplanes that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Required as indicated, unless accomplished previously.

To prevent failure of the pitch trim system, which could cause undetected autopilot trim runaway, and result in reduced controllability of the airplane, uncommanded autopilot disconnect, and excessive altitude loss; accomplish the following:

Restatement of Requirements of AD 99-01-12

Placard Installation and AFM Revision

(a) Within 20 flight hours after February 2, 1999 (the effective date of AD 99-01-12, amendment 39-11015), accomplish paragraphs (a)(1), (a)(2), (a)(3), and (a)(4) of this AD.

(1) Install warning placards, P/N 145-39641-001, on the left and right sides of the cockpit glare shield panel, using double-face tape (or similar), in accordance with EMBRAER Alert Service Bulletin S.B. 145-31-A010, dated December 15, 1998, which states:

“DO NOT OPERATE AUTOPILOT BELOW 1,500 FT A.G.L.”

(2) Revise the Limitations Section of the FAA-approved Airplane Flight Manual (AFM) (in the “AUTOPILOT” section) to include the information contained in this paragraph of the AD. This may be accomplished by inserting a copy of this AD in the AFM.

“Autopilot

THE USE OF AUTOPILOT BELOW 1,500 FEET IS PROHIBITED.”

(3) Revise the Emergency Procedures Section of the FAA-approved AFM (in the “PITCH TRIM RUNAWAY” section) to include the following statement. This may be accomplished by inserting a copy of this AD in the AFM.

“Pitch Trim Runaway

Immediately and simultaneously:

Control Column—HOLD FIRMLY

Quick Disconnect Button—PRESS AND HOLD

Pitch Trim Main System—OFF

Pitch Trim Back Up System—OFF

Quick Disconnect Button—RELEASE

If control column forces are excessive, try to recover airplane control by turning one system on and trimming the airplane as necessary. Initiate with the backup system. Leave the failed system off.

If neither system is operative:

PITCH TRIM INOPERATIVE Procedure—COMPLETE

Autopilot—OFF

Do not use the autopilot for the remainder of the flight.”

(4) Revise the Abnormal Procedures Section of the FAA-approved AFM (in the “AUTOPILOT” section) to include the following statement. This may be accomplished by inserting a copy of this AD in the AFM.

“Autopilot Trim Failed

PITCH TRIM RUNAWAY Procedure—PERFORM

Stabilizer Out of Trim

PITCH TRIM RUNAWAY Procedure—PERFORM”

New Requirements of this Ad

Terminating Action

(b) Within 500 flight hours after the effective date of this AD, accomplish paragraphs (b)(1) and (b)(2) of this AD. Accomplishment of paragraph (b) of this AD constitutes terminating action for the requirements of paragraph (a) of this AD.

(1) Replace the integrated computer IC-600 #1, P/N 7017000-82402, with a new integrated computer, P/N 7017000-82422; install an upgraded integrated computers checklist; and remove warning placards, P/N 145-39641-001, on the left and right sides of the cockpit glare shield panel required by paragraph (a)(1) of this AD; in accordance with EMBRAER Service Bulletin S.B. 145-31-0010, dated March 18, 1999.

Note 2: Installation of an upgraded integrated computers checklist is required only if an integrated computers checklist is currently installed on the airplane.

(2) Remove the limitations required by paragraphs (a)(2), (a)(3), and (a)(4) of this AD from the AFM.

Alternative Methods of Compliance

(c) An alternative method of compliance or adjustment of the compliance time that provides an acceptable level of safety may be used if approved by the Manager, Atlanta Aircraft Certification Office (ACO), FAA, Small Airplane Directorate. Operators shall submit their requests through an appropriate FAA Principal Maintenance/Operations Inspector, who may add comments and then send it to the Manager, Atlanta ACO.

Note 3: Information concerning the existence of approved alternative methods of compliance with this AD, if any, may be obtained from the Atlanta ACO.

Special Flight Permits

(d) Special flight permits may be issued in accordance with sections 21.197 and 21.199 of the Federal Aviation Regulations (14 CFR 21.197 and 21.199) to operate the airplane to a location where the requirements of this AD can be accomplished.

Incorporation by Reference

(e) Except as provided by paragraph (a)(2) of this AD: The actions shall be done in accordance with EMBRAER Alert Service Bulletin S.B. 145-31-A010, dated December 15, 1998, and EMBRAER Service Bulletin S.B. 145-31-0010, dated March 18, 1999.

(1) The incorporation by reference of EMBRAER Service Bulletin S.B. 145-31-0010, dated March 18, 1999, is approved by the Director of the Federal Register in accordance with 5 U.S.C. 552(a) and 1 CFR part 51.

(2) The incorporation by reference of EMBRAER Alert Service Bulletin S.B. 145-31-A010, dated December 15, 1998, was previously approved by the Director of the Federal Register as of February 2, 1999 (64 FR 4521, January 29, 1999).

(3) Copies may be obtained from Empresa Brasileira de Aeronautica S.A. (EMBRAER), P.O. Box 343—CEP 12.225, Sao Jose dos Campos—SP, Brazil. Copies may be inspected at the FAA, Transport Airplane Directorate, 1601 Lind Avenue, SW., Renton, Washington; or at the FAA, Small Airplane Directorate, Atlanta Aircraft Certification Office, One Crown Center, 1895 Phoenix Boulevard, suite 450, Atlanta, Georgia; or at the Office of the Federal Register, 800 North Capitol Street, NW., suite 700, Washington, DC.

Note 4: The subject of this AD is addressed in Brazilian airworthiness directive 98-12-01R1, dated May 26, 1999.

(f) This amendment becomes effective on June 16, 2000.

Issued in Renton, Washington, on May 3, 2000.
Vi L. Lipski,
Acting Manager, Transport Airplane Directorate, Aircraft Certification Service.

[FR Doc. 00-11547 Filed 5-11-00; 8:45 am]

BILLING CODE 4910-13-U